DEPARTMENT OF COMMERCE

Foreign-Trade Zones Board

[B-72-2016]

Foreign-Trade Zone (FTZ) 80—San Antonio, Texas; Authorization of Production Activity: CGT U.S., Ltd.; Subzone 80E (Polyvinyl Chloride (PVC) Coated Upholstery Fabric Cover Stock), New Braunfels, Texas

On October 18, 2016, CGT U.S., Ltd., submitted a notification of proposed production activity to the Foreign-Trade Zones (FTZ) Board for its facility within Subzone 80E, in New Braunfels, Texas.

The notification was processed in accordance with the regulations of the FTZ Board (15 CFR part 400), including notice in the Federal Register inviting public comment (81 FR 76914-76915, November 4, 2016). On February 15, 2017, the applicant was notified of the FTZ Board's decision that no further review of the activity is warranted at this time. The production activity described in the notification was authorized, subject to the FTZ Act and the FTZ Board's regulations, including Section 400.14, and further subject to restriction requiring that foreign-status polyester and polycotton knit fabrics be admitted to the subzone in privileged foreign-status (19 CFR 146.41).

Dated: June 8, 2017.
Andrew McGilvray,
Executive Secretary.

[FR Doc. 2017-12413 Filed 6-14-17; 8:45 am]

BILLING CODE 3510-DS-P